ENVIRONMENTAL PROTECTION AGENCY

40 CFR Part 52

[EPA-R10-OAR-2013-0247; FRL-9906-87-Region 10]

Approval and Promulgation of Air Quality Implementation Plans: Idaho, Northern Ada County PM10 Second Ten-Year Maintenance Plan and Pinehurst PM10 Contingency Measures

AGENCY: Environmental Protection Agency (EPA).

ACTION: Proposed rule.

SUMMARY: On March 11, 2013 the Idaho Department of Environmental Quality (IDEQ) submitted a revised plan for particulate matter with an aerodynamic diameter less than or equal to ten micrometers (PM10) for Northern Ada County for the PM10 National Ambient Air Quality Standard (NAAQS). This revised Maintenance Plan addresses maintenance of the PM10 standard for a second ten-year period beyond redesignation, extends the horizon years, and contains revised transportation conformity budgets. The Environmental Protection Agency (EPA) is proposing to approve this State Implementation Plan (SIP) revision. The EPA is also proposing to approve the February 15-16, 2011 high wind exceptional event at the Boise Fire Station monitor, as well as contingency measures for the Pinehurst PM10 Air Quality Improvement Plan. The EPA is proposing to approve the second ten-year PM10 Maintenance Plan for Northern Ada County and the Pinehurst PM10 contingency measures under section 110 of the Clean Air Act (CAA). The EPA is proposing to approve the February 2011 exceptional event pursuant to 40 CFR 50.14.

DATES: Written comments must be received by March 24, 2014.

ADDRESSES: Submit your comments, identified by Docket Number EPA-R10-OAR-2013-0247, by one of the following methods:

• www.regulations.gov. Follow the on-line instructions for submitting comments.

• Email: Edmondson.lucy@epa.gov

• Mail: Lucy Edmondson, Air Quality Planner, Office of Air Waste and Toxics, EPA Region 10, Washington Operations Office, 300 Desmond Drive SE., Suite 102, Lacey, WA 98503.

• Hand Delivery/Courier: Such deliveries are accepted Monday through Friday, 8 a.m. to 4:55 p.m., excluding Federal holidays. Special arrangements should be made for deliveries of boxed information.

Instructions: Direct your comments to Docket ID No. EPA-R10-OAR-2013-0247. The EPA's policy is that all comments received will be included in the public docket without change and may be made available at www.regulations.gov, including any personal information provided, unless the comment includes information claimed to be Confidential Business Information (CBI) or other information the disclosure of which is restricted by statute. Do not submit information that you consider to be CBI or otherwise protected through http://www.regulations.gov or email. The www.regulations.gov Web site is an “anonymous access” system, which means the EPA will not know your identity or contact information unless you provide it in the body of your comment. If you send an email comment directly to the EPA, without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information the disclosure of which is restricted by statute. Certain other material, such as copyrighted material, will be publicly available only in hard copy. Publicly available docket materials are available either electronically in www.regulations.gov or in hard copy during normal business hours at the Office of Air, Waste and Toxics, EPA Region 10, 1200 6th Ave, Seattle, Washington 98101.

FOR FURTHER INFORMATION CONTACT: Lucy Edmondson at (360) 753-9082, Edmondson.lucy@epa.gov, or the above, EPA, Region 10 address.

SUPPLEMENTARY INFORMATION:

Table of Contents

I. Purpose

II. Background

III. Current PM10 levels in Ada County

IV. The EPA's Evaluation of the Northern Ada County PM10 Second Ten-Year Maintenance Plan

V. The EPA's Evaluation of the February 2011 Exception Events Request

VI. The EPA's Proposed Approval of Contingency Measures for the Pinehurst PM10 Air Quality Improvement Plan

VII. Proposed Action

VIII. Statutory and Executive Order Reviews

Definitions: For the purpose of this document, we are giving meaning to certain words or initials as follows:

(i) The words or initials “Act” or “CAA” mean or refer to the Clean Air Act, unless the context indicates otherwise.

(ii) The words “the EPA,” “we,” “us” or “our” mean or refer to the Environmental Protection Agency.

(iii) The initials “NAAQS” mean National Ambient Air Quality Standard.

(iv) The initials “SIP” mean or refer to State Implementation Plan.

(v) The word “State” means the State of Idaho, unless the context indicates otherwise.

(vi) “PM10” means particulate matter with an aerodynamic diameter less than or equal to ten micrometers.

(vii) “MOVES” refers to Motor Vehicle Emissions Simulator, the EPA's modeling system for mobile sources.

I. Purpose

Section 175A of the CAA requires the submission of a second ten-year maintenance plan eight years after any nonattainment area is redesignated to attainment. This rulemaking proposes approval of the second ten-year maintenance plan submitted by IDEQ for the Northern Ada County PM10 attainment/maintenance area, which demonstrates continued maintenance of the PM10 NAAQS through 2023. In this revised maintenance plan, the State has updated mobile source PM10 emission levels using the Motor Vehicle Emissions Simulator model (MOVES), updated the transportation projections and stationary source inventories, and revised the motor vehicle emissions budgets (MVEBs). As described below, the EPA has determined that the revised maintenance plan demonstrates continued maintenance of the PM10 NAAQS and meets the requirements of sections 110 and 175A of the CAA. In addition, the EPA is approving the exclusion of data from the high wind event of February 15-16, 2011, and the Contingency Measures for the Pinehurst PM10 Air Quality Improvement Plan.

II. Background

Northern Ada County was identified as an area of concern for PM10 with the promulgation of the PM10 NAAQS in 1987, and was formally designated as a moderate PM10 nonattainment area upon passage of the 1990 CAA. Idaho developed a SIP and submitted it to the EPA in November 1991, later submitting revisions in December 1994 and July 1995. The EPA finalized approval of the Northern Ada County PM10 SIP on May 30, 1996 (61 FR 27019). Idaho submitted a maintenance plan and a request to redesignate the area to attainment on September 27, 2002, and provided supplemental information on July 10, 2003 and July 21, 2003. On October 27, 2003, the EPA approved the Northern Ada County PM10 Maintenance Plan and redesignated the area to attainment status for PM10 (68 FR 61106).

In actions dated August 25, 1994 (59 FR 43475) and May 26, 1995 (60 FR 27891), the EPA conditionally approved the SIP for the Pinehurst, Idaho PM10 nonattainment area. The conditional approval concluded that IDEQ had not satisfied the requirement for contingency measures for both the City of Pinehurst and the Pinehurst Expansion area. The EPA set a deadline of July 20, 1995 for IDEQ to submit the required contingency measures. IDEQ met the established deadline with its submission “Contingency Measures for the Pinehurst PM10 Air Quality Improvement Plan,” dated July 13, 1995.

On September 23, 2013, IDEQ submitted documentation in accordance with the Exceptional Events Rule (72 FR 13560) to show that the monitored PM10 values on February 15-16, 2011 at the Boise monitor were due to a high wind event and resulting dust storm that originated in Nevada.

III. Current PM10 levels in Ada County

The national primary and secondary 24-hour ambient air quality standards for PM10 are 150 micrograms per cubic meter (μg/m³) based on a 24-hour average concentration. The standard is attained when the expected number of days per calendar year with a 24-hour concentration above 150 μg/m³ is equal to or less than one per year over a three year period. The Northern Ada County PM10 Second Ten-Year Maintenance Plan, submitted by IDEQ on March 11, 2013, relies on ambient air quality data from 2007 through 2011. In addition, we have reviewed ambient air quality data from 2000 through 2011. With the EPA's December 2013 concurrence on the exclusion of data associated with the high wind event of February 15-16, 2011 at the Boise Fire Station Monitor, Northern Ada County shows continuous attainment of the PM10 NAAQS based on the most recent 2000-2012 data archived in the EPA's Air Quality System Database (www.epa.gov/ttn/airs/airsaqs/detaildata/AQIindex.htm).

IV. The EPA's Evaluation of the Northern Ada County PM10 Second Ten-Year Maintenance Plan

The criteria EPA used to review and evaluate the maintenance plan are derived from the CAA, the General Preamble for State Implementation Plans (57 FR 13498), and the guidance memorandum from John Calcagni, Procedures for Processing Requests to Redesignate Areas to Attainment, September 4, 1992. The following are the key elements of a maintenance plan for PM10: Emissions Inventory, Maintenance Demonstration, Monitoring Network/Verification of Continued Attainment, Control Strategies, Contingency Measures, and the Motor Vehicle Emissions Budget for PM10 as required for Transportation Conformity. Below, we describe our evaluation of these elements as they pertain to the Northern Ada County PM10 Second Ten-Year Maintenance Plan.

A. Emissions Inventory: An emissions inventory was prepared for the entirety of Ada County for the base year of 2008. In addition to the base year 2008 inventory, emissions forecasts were prepared for future year projections for 2015 and 2023. Using an emissions inventory prepared for the entire county enabled IDEQ to capture emissions both within and outside of the North Ada County PM10 Maintenance Area. The projections in Table 1 below show that direct primary emissions of PM10 increase 27% from 2008 to 2023, while the chemical precursors to secondarily formed PM10 significantly decrease. The largest source of primary PM10 is fugitive dust from on-road mobile sources and the projected PM10 increases are mostly from projected increases in on-road vehicle traffic. We find that IDEQ has prepared adequate recent and future year emission inventories for the area that meet Maintenance Plan requirements.

Table 1—Annual Emissions for Ada County
[Tons per year]
Year | PM10 | NOx | SO2
2008 | 20,395 | 14,149 | 250
2015 | 21,756 | 9,294 | 151
2023 | 25,875 | 7,207 | 172

B. Maintenance Demonstration: The EPA-approved Northern Ada County First Ten-Year PM10 Maintenance Plan used the CAMx photochemical transport model to demonstrate maintenance of the PM10 standard. IDEQ used a photochemical transport model for the North Ada County First PM10 Ten-Year Maintenance Plan because of concerns about secondary production of PM10 from the chemical precursors nitrogen oxides (NOX) and sulfur dioxide (SO2) and the potential growth in these precursor emissions. However, future year emissions projections for 2015 and 2023 now indicate significant reductions in NOX and SO2 from 2008 baseline values, and the PM10 design values in Northern Ada County have been well below the standard over the past decade. The EPA has approved a more simplified roll-forward modeling approach appropriate for evaluating the effects of primary PM10 emissions changes on ambient PM10 values in Northern Ada County. Use of this more simplified roll-forward modeling approach is also a conservative approach because it does not allow credit to be taken for emissions reductions in the secondary PM10 precursors NOX and SO2. For the Northern Ada County PM10 Second Ten-Year Maintenance Plan, the roll-forward model can be used to conservatively estimate whether the PM10 concentrations can be maintained below the NAAQS in future years. With the exception of the high wind exceptional event on February 15-16, 2011 at the Boise Fire Station monitor, discussed in more detail below, a review of data from 2000-2011 shows that average PM10 concentrations remain below the 24-hour PM10 NAAQS.

C. Monitoring Network/Verification of Continued Attainment: PM10 ambient air monitoring in Northern Ada County consists of one monitor, operated by IDEQ, located at Fire Station #5 at 16th and Front Streets in downtown Boise. The monitor is a tapered element oscillating microbalance (TEOM) monitor, which provides continuous, real-time direct measurement of PM10 concentrations. The TEOM monitor is part of the approved IDEQ monitoring network and is operated in accordance with 40 CFR Part 58. In its submission, IDEQ commits that it will continue to operate an appropriate PM10 air quality monitor in accordance with 40 CFR Part 58 to verify continued attainment of the PM10 NAAQS. The EPA will continue its annual review of the monitoring network to ensure ongoing compliance with the EPA's air monitoring requirements and continued maintenance of the PM10 NAAQS.

D. Control Strategies: The Northern Ada County PM10 Second Ten-Year Maintenance Plan includes the following control strategies, which are the same as those used in the Northern Ada County PM10 First Ten-Year Maintenance Plan (61 FR 27019): 1) the air quality index program through which IDEQ provides information on the measured and predicted ambient air pollution levels along with information on mandatory and voluntary open burning bans and indoor burning bans; 2) a residential wood burning program; 3) an open burning ban; and 4) stationary source controls. The stationary source controls include conditions in Tier II permits for eight facilities in the maintenance area, as well as The Amalgamated Sugar Company (TASCO) factory in Nampa, Idaho that is outside the maintenance area but was included within the original modeling domain. The eight facilities are:

• LP Wood Polymers—(now Fiber Composites)

• Mike's Sand and Gravel—(now Clement's Concrete)

• Crookham Company

• Plum Creek Lumber Company

• C. Wright Construction

• Idaho Concrete (3 separate facilities)

The Tier II permits for the eight facilities in the maintenance area include limits on the potential to emit. The Tier II permit for the TASCO facility required reductions in PM10 emissions from the facility ¹. Retention of the Tier II permits maintains these control strategies in a manner that is consistent with applicable guidance. The EPA approved these control measures when approving the first Ten-Year Maintenance plan and they became federally enforceable at that time.

¹ On December 23, 2011, IDEQ finalized Tier II permit number T2-2009.0105 for certain TASCO emission units as part of its Regional Haze Plan. The conditions of this permit impose additional PM10 reductions from the facility that will benefit maintenance of the PM10 NAAQS in Ada County.

E. Contingency Measures: Section 175A(d) of the CAA requires that a maintenance plan include contingency measures to assure that any violation of the standard is promptly corrected. To meet this requirement, the State has identified appropriate contingency measures along with a schedule for the development and implementation of such measures. As stated in Section 8 of the Northern Ada County PM10 Second Ten-Year Maintenance Plan, the contingency measures will be triggered by a violation of the PM10 NAAQS. Such a violation will prompt IDEQ to implement one or more contingency measures, as appropriate, to correct the violation. Potential contingency measures include: (1) adopt local ordinances that require covering all loads of material that have the potential to contribute to particulate matter pollution; (2) adopt local ordinances that require no track-out onto paved roads; (3) adopt local ordinances that prohibit burning of outdoor trash; (4) eliminate local permits that allow any kind of uncontrolled outdoor burning not specifically allowed under state rules; (5) expand mandatory burning restrictions to include clean-burning woodstoves during air quality alerts; (6) adopt local ordinances that prohibit constructing any unpaved roads, driveways or parking lots; (7) revise street sweeping plans working with local highway districts and the Idaho Transportation Department, based on the latest traffic data so as to prioritize street sweeping efforts to reduce fugitive road dust; and (8) analyze the impacts from all industrial sources and develop potential emission reductions, if necessary to maintain attainment, in accordance with the rules. In addition, IDEQ indicates it may evaluate other strategies to address any future violations in the most appropriate and cost-effective manner possible. We find that the contingency measures contained in the Northern Ada County PM10 Second Ten-Year Maintenance Plan are sufficient and meet the requirements of Section 175A(d) of the CAA. We note the contingency measures and methodology to implement the measures are the same as those we approved in the original SIP and the First Ten-Year Maintenance Plan.

F. Transportation Conformity Requirements: Motor Vehicle Emission Budget for PM10: Under Section 176(c) of the CAA, transportation plans, programs, and projects in nonattainment or maintenance areas that are funded or approved under the Federal Transit Act must conform to the applicable SIP. In short, a transportation plan is deemed to conform to the applicable SIP if the emissions resulting from implementation of that transportation plan are less than or equal to the motor vehicle emission level established in the SIP for the maintenance year and other analysis years. In this maintenance plan, procedures for estimating motor vehicle emissions are well documented. On-road mobile source emissions were calculated using the MOVES model. The motor vehicle emission budgets for on-road motor vehicle PM10 emissions in Ada County for 2008, 2015, 2023 are shown in Table 2, below.

Table 2— MVEBs for Northern Ada County PM10 Maintenance Area
[Tons per day]
Budget year | PM10 | NOX | VOC
2008 | 31.0 | 29.5 | 12.6
2015 | 42.9 | 29.5 | 12.6
2023 | 60.1 | 34.2 | 17.2

On June 6, 2013, the EPA published a notice of our finding that the MVEBs for PM10, NOX, and volatile organic compounds (VOC) for the years 2008, 2015 and 2023 in the Northern Ada County PM10 Second Ten-Year Maintenance Plan were adequate for transportation conformity purposes. This adequacy determination became effective on June 21, 2013 (78 FR 34095).

V. The EPA's Evaluation of the February 2011 Exceptional Events Request

The EPA is proposing to approve the State's request to exclude data from February 15-16, 2011 in determining PM10 attainment as a high wind exceptional event. The EPA evaluated IDEQ's exceptional event demonstration for the flagged values of the 24-hour PM10 NAAQS for February 15-16, 2011 at the monitor in Boise, Idaho, with respect to the requirements of the EPA's Exceptional Events Rule (40 CFR 50.14) and determined that IDEQ met each requirement. The EPA concurred on the exceptional event on December 13, 2013. For further information, refer to the State's Exceptional Event demonstration package and EPA's concurrence and analysis located in the docket.

VI. The EPA's Proposed Approval of Contingency Measures for the Pinehurst PM10 Air Quality Improvement Plan

As provided in section 172(c)(9) of the CAA, all nonattainment area SIPs that demonstrate attainment must include contingency measures. Contingency measures consist of other available measures that are not part of the area's control strategy but are included in the plan revision as measures to be undertaken if the area fails to make reasonable further progress or to attain by the applicable attainment date. These measures must take effect in any such case without further action by the state.

In response to the EPA's conditional approval of the Pinehurst PM10 nonattainment SIP, IDEQ submitted its “Contingency Measures for the Pinehurst PM10 Air Quality Improvement Plan,” specifying the contingency measures for the Pinehurst PM10 nonattainment area. These contingency measures require implementation of additional emission control actions in the Pinehurst residential wood burning program, including wood stove replacements, voluntary wood stove curtailment, public awareness and home weatherization. The EPA believes that the implementation of these measures, if necessary, would provide additional reductions of PM10 emissions and further attainment of the PM10 NAAQS. The Pinehurst PM10 nonattainment area has monitored attainment of the PM10 NAAQS since IDEQ submitted the contingency measures for EPA's approval in 1995. The EPA is proposing to approve these measures as satisfying the section 172(c)(9) contingency measure requirement for the Pinehurst PM10 attainment plan, finalizing our approval of the plan.

VII. Proposed Action

The EPA is proposing to approve the Northern Ada County PM10 Second Ten-Year Maintenance Plan adopted by IDEQ to ensure maintenance of the NAAQS for PM10 in Northern Ada County for a second ten-year maintenance period, to protect the health and welfare of the area citizens from adverse effects of degraded air quality levels. In addition, the EPA is proposing to approve the exclusion of data from the high wind event of February 15-16, 2011, and the Contingency Measures for the Pinehurst PM10 Air Quality Improvement Plan.

VIII. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to the requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and the EPA notes that it will not impose substantial direct costs on tribal governments or preempt tribal law.

List of Subjects in 40 CFR Part 52

Environmental protection, Air pollution control, Incorporation by reference, Particulate matter, and Reporting and recordkeeping requirements.

Authority: 42 U.S.C. 7401 et seq.

Dated: January 23, 2014.
Dennis J. McLerran,
Regional Administrator, Region 10.

[FR Doc. 2014-03639 Filed 2-19-14; 8:45 am]

BILLING CODE 6560-50-P